DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Current Population Survey.

OMB Control Number: 0607-0049.

Form Number(s): CPS-263, CPS-263(SP), CPS-264, CPS-264(SP), CPS-266, BC-1428, BC-1428(SP), BC-1433, BC-1433(SP), CPS-692, CPS-504.

Type of Request: Revision of a currently approved collection.

Burden Hours: 19,347.

Number of Respondents: 59,000.

Average Hours per Response: The demographic items within the monthly CPS interview (including school enrollment) take about 1.6 minutes.

Needs and Uses: The U.S. Census Bureau requests authorization from the Office of Management and Budget (OMB) to increase the universe for three of the questions within the Current Population Survey (CPS). The monthly school enrollment question in the Current Population Survey has long been collected for people from age 16 up to the age of 24, but changes in the population dictate a need to increase the universe up to the age of 54. Raising the age of respondents to which the monthly enrollment question is provided will substantially increase the data resources with which analysts and researchers identify the effects of federal education and training policies on key, policy-relevant populations. This change is sponsored by the National Center for Education Statistics (NCES).

The primary purpose of collecting the school enrollment data from the CPS is to relate demographic characteristics (age, sex, race, education, occupation, and income) to school enrollment behavior. Federal, state, and local governments; college institutions; research groups; and other private organizations use the school enrollment data collected. Increasing the universe will provide data on how federal investments in education and training are affecting those over 24. Additionally, monthly data allows us to measure adult enrollment in education that does not necessarily coincide with typical enrollments in the Fall for younger adults. Further, it allows better measurement of how enrollment responds both to changes in the business cycle and government policy—federal student aid training programs—that is not possible with any other federal data source.

Affected Public: Individuals or households.

Frequency: Monthly.

Respondent's Obligation: Voluntary.

Authority: Title 13 U.S.C., Section 182.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: September 21, 2012.
Glenna Mickelson,
Management Analyst, Office of the Chief Information Officer.

[FR Doc. 2012-23663 Filed 9-25-12; 8:45 am]

BILLING CODE 3510-07-P